DEPARTMENT OF JUSTICE

Antitrust Division

Notice Pursuant to the National Cooperative Research and Production Act of 1993—Integrated Photonics Institute for Manufacturing Innovation Operating Under the Name of the American Institute for Manufacturing Integrated Photonics

Notice is hereby given that, on June 16, 2016, pursuant to Section 6(a) of the National Cooperative Research and Production Act of 1993, 15 U.S.C. 4301 et seq. (“the Act”), the Integrated Photonics Institute for Manufacturing Innovation operating under the name of the American Institute for Manufacturing Integrated Photonics (“AIM Photonics”), has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: The Research Foundation for the State University of New York, acting on behalf of the State University of New York Polytechnic Institute, Albany, NY; The Trustees of Columbia University in the City of New York, New York, NY; The Regents of the University of California, on behalf of its Santa Barbara campus, Santa Barbara, CA; Massachusetts Institute of Technology, Cambridge, MA; Arizona Board of Regents on behalf of the University of Arizona, Tucson, AZ; The Rector and Visitors of the University of Virginia, Charlottesville, VA; and SunEdison Semiconductor Limited, St. Peters, MO.

The general area of AIM Photonics' planned activity is research, development and demonstration in the manufacture of integrated photonics. AIM Photonics seeks to (1) advance integrated photonic circuit manufacturing technology development while simultaneously providing access to state-of-the-art fabrication, packaging, and testing capabilities for commercial enterprises, academia and the government; (2) create an adaptive integrated photonic circuit workforce capable of meeting industry needs and thus further increasing domestic competitiveness; and (3) meet participating commercial, defense and civilian agency needs in this burgeoning technology area. AIM Photonics became the sixth Institute for Manufacturing Innovation. Its objective is to increase manufacturing in the United States.

Patricia A. Brink,
Director of Civil Enforcement, Antitrust Division.

[FR Doc. 2016-17435 Filed 7-22-16; 8:45 am]

BILLING CODE P